DEPARTMENT OF TRANSPORTATION

Federal Aviation Administration

14 CFR Part 39

[Docket No. FAA-2009-0292; Directorate Identifier 2008-NM-011-AD]

RIN 2120-AA64

Airworthiness Directives; Airbus Model A300, A310, and A300-600 Series Airplanes

AGENCY: Federal Aviation Administration (FAA), Department of Transportation (DOT).

ACTION: Notice of proposed rulemaking (NPRM).

SUMMARY: The FAA proposes to supersede an existing airworthiness directive (AD) that applies to certain Airbus Model A300 and A310 series airplanes. The existing AD currently requires replacement of the nose landing gear drag strut upper attachment pin. This proposed AD would require revising the Airworthiness Limitations section (ALS) of the Instructions for Continued Airworthiness (ICA) to require additional life limits and/or replacements for certain main landing gear and nose landing gear components, and would also expand the applicability. This proposed AD results from revisions to the ALS of the ICA to include new or more restrictive life limits and/or replacements. We are proposing this AD to ensure the continued structural integrity of these airplanes.

DATES: We must receive comments on this proposed AD by May 1, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Airbus SAS—EAW (Airworthiness Office), 1 Rond Point Maurice Bellonte, 31707 Blagnac Cedex, France; telephone +33 5 61 93 36 96; fax +33 5 61 93 44 51; e-mail: account.airworth-eas@airbus.com; Internet: http://www.airbus.com. You may review copies of the referenced service information at the FAA, Transport Airplane Directorate, 1601 Lind Avenue, SW., Renton, Washington. For information on the availability of this material at the FAA, call 425-227-1221 or 425-227-1152.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2009-0292; Directorate Identifier 2008-NM-011-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On July 21, 1987, we issued AD 87-16-06, amendment 39-5692 (52 FR 28241, July 29, 1987), for certain Airbus Model A300 and A310 series airplanes. That AD requires replacement of the nose landing gear drag strut upper attachment pin. That AD resulted from reports of pins which were found to be improperly manufactured. We issued that AD to prevent failure of the pin and collapse of the nose landing gear.

Actions Since Existing AD Was Issued

Since we issued AD 87-16-06, the manufacturer has revised the Airworthiness Limitations Section (ALS) of the Instructions for Continued Airworthiness (ICA) to include new or more restrictive life limits and replacements for the main landing gear and the nose landing gear. These new limits affect the replacement of the upper attachment pin for the nose landing gear drag strut that was the subject of AD 87-16-06.

In addition, European Aviation Safety Agency (EASA) Airworthiness Directive 2007-0293, dated November 29, 2007, which is parallel to this proposed AD, includes Model A300-600 series airplanes. Those airplane models were not included in AD 87-16-06.

Relevant Service Information

Airbus has issued the following revisions to the ALS of the ICA. These documents provide each mandatory replacement time, structural inspection interval, and related structural inspection procedures or other procedures (e.g., modifications).

• For Model A300 Series Airplanes: “Sub-part 1-2: Life Limits,” and “Sub-part 1-3: Demonstrated fatigue lives” of Part 1, “Safe Life Airworthiness Limitation Items,” dated September 6, 2007.

• For Model A300-600 Series Airplanes: “Sub-part 1-2: Life Limits,” and “Sub-part 1-3: Demonstrated fatigue lives” of Part 1, “Safe Life Airworthiness Limitation Items,” dated December 21, 2006.

• For Model A310 Series Airplanes: “Sub-part 1-2: Life Limits,” and “Sub-part 1-3: Demonstrated fatigue lives” of Part 1, “Safe Life Airworthiness Limitation Items,” dated December 21, 2006.

Airbus has also issued Section 05-10-00, Revision 28, dated February 27, 1998, of Chapter 5, “Service Life Limits and Maintenance Checks,” of the A300 Aircraft Maintenance Manual. Section 05-10-00 includes life limit values for the nose and main landing gears. This document is an alternate source for the life limits defined in Part 1, “Safe Life Airworthiness Limitation Items,” dated September 6, 2007, of the ALS, for Model A300 series airplanes.

Airbus has also issued Service Information Letter (SIL) 32-118, Revision 02, dated October 24, 2007. This SIL gives instructions for calculating the life limit of main or nose landing gear parts where the history of accumulated landings is partial or unknown, or where the history of application details (airplane type, model, weight variant, etc.) is partial or unknown.

Accomplishing the actions specified in the service information is intended to adequately address the unsafe condition. EASA mandated the service information and issued Airworthiness Directive 2007-0292, dated November 29, 2007, to ensure the continued airworthiness of these airplanes in the European Union.

Other Relevant Rulemaking

On January 11, 1984, we issued AD 84-02-04 (49 FR 2746, January 23, 1984), for certain Airbus Model A300 B2 and B4 series airplanes. That AD requires inspection of main landing gear hinge arms for corrosion and cracks, and repair or modifications if needed. That AD also requires replacement of the main landing gear shock absorber sliding rod attachment fitting. That AD resulted from corrosion and cracks found on these components. We issued that AD to prevent landing gear failure.

The actions specified in paragraph (h) of this proposed AD would satisfy the requirements of paragraph A. of AD 84-02-04. There are no actions in this proposed AD that would satisfy the requirements of paragraphs B. and C. of AD 84-02-04.

FAA's Determination and Requirements of the Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would supersede AD 87-16-06 and would retain the requirements of that existing AD. This proposed AD would also add airplanes to the applicability and require revising the ALS of the ICA to incorporate additional life limits and/or structural inspections for certain main landing gear and nose landing gear components.

Change to Existing AD

This proposed AD would retain the requirements of AD 87-16-06. Since AD 87-16-06 was issued, the AD format has been revised. As a result, the corresponding paragraph identifiers have changed in this proposed AD, and paragraph (g) of this proposed AD corresponds to paragraph A. of AD 87-16-06.

Costs of Compliance

The following table provides the estimated costs for U.S. operators to comply with this proposed AD.

Estimated Costs
Action | Work hours | Average labor rate per hour | Parts | Cost per airplane | Number of U.S.-registered airplanes | Fleet cost
Replacement (required by AD 87-16-06) | 7 | $80 | $3,300 | $3,860 | 94 | $362,840
Revision (new proposed action) | 1 | 80 | 0 | 80 | 238 | 19,040

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Incorporation by Reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-5692 (52 FR 28241, July 29, 1987) and adding the following new airworthiness directive (AD):

Airbus: Docket No. FAA-2009-0292; Directorate Identifier 2008-NM-011-AD.

Comments Due Date

(a) The FAA must receive comments on this AD action by May 1, 2009.

Affected ADs

(b) This AD supersedes AD 87-16-06.

Applicability

(c) This AD applies to all Airbus Model A300, A310, and A300-600 series airplanes, certificated in any category.

Subject

(d) Air Transport Association (ATA) of America Code 32: Landing Gear.

Unsafe Condition

(e) This AD results from revisions to the Airworthiness Limitations section (ALS) of the Instructions for Continued Airworthiness (ICA) to include new or more restrictive life limits and/or replacements. We are issuing this AD to ensure the continued structural integrity of these airplanes.

Compliance

(f) You are responsible for having the actions required by this AD performed within the compliance times specified, unless the actions have already been done.

Note 1: This AD requires revisions to certain operator maintenance documents to include new replacements. Compliance with these inspections is required by 14 CFR 91.403(c). For airplanes that have been previously modified, altered, or repaired in the areas addressed by these replacements, the operator may not be able to accomplish the replacements described in the revisions. In this situation, to comply with 14 CFR 91.403(c), the operator must request approval for an alternative method of compliance according to paragraph (l) of this AD. The request should include a description of changes to the required replacements that will ensure the continued operational safety of the airplane.

Restatement of the Requirements of AD 87-16-06

(g) For Model A300 and A310 Series Airplanes: Prior to the accumulation of 16,000 landings, or within the next 2,000 landings after September 3, 1987 (the effective date of AD 87-16-06), whichever occurs later, replace the nose landing gear drag strut upper attachment pin in accordance with Airbus Service Bulletin A300-32-374, Revision 1, dated July 15, 1986 (applicable to Model A300 airplanes); or A310-32-2023, Revision 2, dated November 14, 1986 (applicable to Model A310 airplanes).

New Requirements of This AD

ALS Revision

(h) For Model A300, A310, and A300-600 Series Airplanes: Within 3 months after the effective date of this AD, revise the ALS of the ICA to incorporate the applicable document listed in paragraph (h)(1), (h)(2), or (h)(3) of this AD. Accomplishing the actions specified in the applicable document satisfies the requirements of paragraph A. of AD 84-02-04, amendment 39-4795.

(1) For Model A300 Series Airplanes: Incorporate the document listed in paragraph (h)(1)(i) or (h)(1)(ii) of this AD.

(i) Section 05-10-00, Revision 28, dated February 27, 1998, of Chapter 5, “Service Life Limits and Maintenance Checks,” of the Airbus A300 Aircraft Maintenance Manual, except that the parts listed in Table 1 of this AD are subject to the life limits defined in the document listed in paragraph (h)(1)(ii) of this AD.

(ii) “Sub-part 1-2: Life Limits,” and “Sub-part 1-3: Demonstrated fatigue lives” of Part 1, “Safe Life Airworthiness Limitation Items,” dated September 6, 2007, of the Airbus A300 ALS.

Table 1—Parts Subject to the Life Limits Specified in the Document Identified in Paragraph (h)(1)(ii) of This AD
Part Number (P/N) | Part name
P/N C61643-2, P/N C61643-4, P/N C61643-5 | Main landing gear (MLG) shock absorber end fitting.
P/N A32210001205xx | Nose landing gear (NLG) pintle pin.
P/N C62037-1 | NLG shock absorber bottom.
P/N 196-0328-501 | Cross beam (Pratt & Whitney forward engine mount).

(2) For Model A310 Series Airplanes: Incorporate “Sub-part 1-2: Life Limits,” and “Sub-part 1-3: Demonstrated fatigue lives” of Part 1, “Safe Life Airworthiness Limitation Items,” dated December 21, 2006, of the Airbus A310 ALS.

(3) For Model A300-600 Series Airplanes: Incorporate “Sub-part 1-2: Life Limits,” and “Sub-part 1-3: Demonstrated fatigue lives” of Part 1, “Safe Life Airworthiness Limitation Items,” dated December 21, 2006, of the Airbus A300-600 ALS.

Initial Compliance Times and Repetitive Inspections

(i) Do the replacement at the applicable time specified in paragraph (i)(1) or (i)(2) of this AD, except as provided by paragraph (j) of this AD. The replacement must be done thereafter within the interval specified in the applicable document identified in paragraph (h)(1), (h)(2), or (h)(3) of this AD.

(1) For any life limitation/task that has been complied with before the effective date of this AD in accordance with the applicable document listed in paragraph (h)(1), (h)(2), or (h)(3) of this AD, or in accordance with paragraph (g) of this AD, use the last accomplishment of each limitation/task as a starting point for accomplishing each corresponding limitation/task required by this AD.

(2) For any life limitation/task that has not been complied with before the effective date of this AD in accordance with the applicable document listed in paragraphs (h)(1), (h)(2), and (h)(3) of this AD, or in accordance with paragraph (g) of this AD, the initial compliance time starts from the date of initial entry into service as defined in the applicable document.

Special Compliance Times

(j) For any airplane on which the history of accumulated landings is partial or unknown, or where the history of application details (airplane type, model, weight variant, etc.) is partial or unknown, with or without using the information in Airbus Service Information Letter 32-118, Revision 02, dated October 24, 2007: Parts listed in Figure 1 of this AD must be replaced at the associated compliance time. The replacement must be done thereafter at the interval specified in the applicable document(s) specified in paragraphs (h)(1), (h)(2), and (h)(3) of this AD.

BILLING CODE 4910-13-P

Alternative Intervals or Limits

(k) Except as provided by paragraph (l) of this AD, after accomplishing the actions specified in paragraphs (h), (i), and (j) of this AD, no alternative replacements, replacement intervals, or limitations may be used.

Alternative Methods of Compliance (AMOCs)

(l)(1) The Manager, Manager, ANM-116, International Branch, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue, SW., Renton, Washington 98057-3356; telephone (425) 227-1622; fax (425) 227-1149.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Related Information

(m) European Aviation Safety Agency (EASA) Airworthiness Directive 2007-0293, dated November 29, 2007, also addresses the subject of this AD.

Issued in Renton, Washington, on March 12, 2009.
Ali Bahrami,
Manager, Transport Airplane Directorate, Aircraft Certification Service.

[FR Doc. E9-7267 Filed 3-31-09; 8:45 am]

BILLING CODE 4910-13-C